NEIGHBORHOOD REINVESTMENT CORPORATION

Sunshine Act Meeting; Twenty-Second Annual Meeting of the Board of Directors

TIME AND DATE: 2:30 P.M., Monday, May 22, 2000.

PLACE: Neighborhood Reinvestment Corporation, 1325 G Street, NW, Suite 800, Board Room, Washington, DC 20005.

STATUS: Open/Closed.

CONTACT PERSON FOR MORE INFORMATION: Jeffrey T. Bryson, General Counsel/Secretary (202) 220-2372.

Agenda

I. Call to Order

II. Approval of Minutes:

March 22, 2000 Regular Meeting

III. Committee Reports

IV. Election of Officers

V. Board Appointments

VI. Resolution of Appreciation

VII. Proposed Pension Plan Amendments

VIII. Treasurer's Report

IX. Executive Director's Quarterly Management Report

X. Personnel Issues

XI. Adjourn

Jeffrey T. Bryson,
General Counsel/Secretary.

[FR Doc. 00-11883 Filed 5-8-00; 3:49 pm]

BILLING CODE 7570-01-M